DEPARTMENT OF HEALTH AND HUMAN SERVICES

Centers for Medicare & Medicaid Services

[CMS-5504-N2]

Bundled Payments for Care Improvement Initiative

AGENCY: Centers for Medicare & Medicaid Services (CMS), HHS.

ACTION: Notice of extension of deadlines.

SUMMARY: This notice extends the deadlines for the submission of the Bundled Payments for Care Improvement “Model 1” letters of intent and applications.

DATES: Letter of Intent Submission Deadline: For Model 1 of this initiative, interested organizations must submit a nonbinding letter of intent by October 6, 2011 as described on the CMS Innovation Center Web site http://www.innovations.cms.gov/areas-of-focus/patient-care-models/bundled-payments-for-care-improvement.html. Application Submission Deadline: For Model 1 of this initiative, applications must be received on or before November 18, 2011.

ADDRESSES: Letter of Intents and Applications should be submitted electronically in searchable PDF format via encrypted e-mail to the following e-mail address by the date specified in the DATES section of this notice: BundledPayments@cms.hhs.gov. Applications and appendices will only be accepted via e-mail.

FOR FURTHER INFORMATION CONTACT: BundledPayments@cms.hhs.gov for questions regarding the application process of the Bundled Payments for Care Improvement initiative.

SUPPLEMENTARY INFORMATION:

I. Background

We are committed to achieving the three-part aim of better health, better health care, and reduced expenditures through continuous improvement for Medicare, Medicaid and Children's Health Insurance Program beneficiaries. Beneficiaries can experience improved health outcomes and patient experience when health care providers work in a coordinated and patient-centered manner. To this end, CMS is interested in partnering with providers who are working to redesign patient care to deliver these aims. Episode payment approaches that reward providers who take accountability for the three-part aim at the level of individual patient care for an episode are potential mechanisms for developing these partnerships.

On August 23, 2011 we posted a request for applications (RFA) on the Innovation Center Web site. In addition, on August 25, 2011 we published a notice requesting applications in the Federal Register [76 FR 53137] to participate in the Bundled Payment for Care Improvement initiative. This initiative seeks proposals from health care providers who wish to align incentives between hospitals, physicians and nonphysician practitioners in order to better coordinate care throughout an episode of care. RFAs will test episode-based payment for acute care and associated post-acute care, using both retrospective and prospective bundled payment methods. The RFA requests applications to test models centered around acute care; these models will inform the design of future models, including care improvement for chronic conditions. For more details, see the RFA, which is available on the Innovation Center Web site at http://www.innovations.cms.gov/areas-of-focus/patient-care-models/bundled-payments-for-care-improvement.html.

II. Provisions of the Notice

The CMS Innovation Center has received much interest and a large number of inquiries about the BPCI initiative announced on the CMS Web site and in the Federal Register. There have also been many requests to allow for some additional time to prepare applications for Model 1 of the BPCI initiative. Based on the feedback from the community of potential applicants and our continued commitment to work in partnership with our stakeholders, the Innovation Center has modified the deadlines relating to Model 1 of the initiative: (1) The letter of intent will be due on or before October 6, 2011; and (2) the application will be due on or before November 18, 2011.

We have announced the deadline extensions via the CMS Web site and via listserv. Therefore we also wanted to announce the extensions of the deadlines via the Federal Register.

III. Collection of Information Requirements

Section 1115A(d)(3) of the Act specifies that the requirements of the Paperwork Reduction Act of 1995 do not apply with respect to the testing and evaluation of payment and service delivery models, or the expansion of these models.

Authority: Section 1115A of the Social Security Act.

Dated: September 28, 2011.
Donald M. Berwick,
Administrator, Centers for Medicare & Medicaid Services.

[FR Doc. 2011-25531 Filed 9-30-11; 4:15 pm]

BILLING CODE 4120-01-P